DEPARTMENT OF COMMERCE

International Trade Administration

[A-570-878]

Saccharin From the People's Republic of China: Notice of Extension of Time Limit for Preliminary Results of Antidumping Administrative Review

AGENCY: Import Administration, International Trade Administration, Department of Commerce.

EFFECTIVE DATE: March 24, 2005.

FOR FURTHER INFORMATION CONTACT: Blanche Ziv or Steve Williams, Import Administration, International Trade Administration, U.S. Department of Commerce, 14th Street and Constitution Avenue, NW., Washington, DC 20230; telephone (202) 482-4207 or (202) 482-4619, respectively.

Background

On August 30, 2004, the Department of Commerce (“the Department”) published a notice of initiation of administrative review of the antidumping duty order on saccharin from the People's Republic of China for nine exporters, covering the period December 27, 2002, through June 30, 2004. See Initiation of Antidumping and Countervailing Duty Administrative Reviews, 69 FR 52857 (August 30, 2004). The preliminary results for this review are currently due no later than April 2, 2005.

Extension of Time Limits for Preliminary Results

Section 751(a)(3)(A) of the Tariff Act of 1930, as amended (“the Act”), provides that the Department will issue the preliminary results of an administrative review of an antidumping duty order within 245 days after the last day of the anniversary month of the date of publication of the order. The Act provides further that the Department may extend that 245-day period to 365 days if it determines it is not practicable to complete the review within the foregoing time period.

The Department has determined that it is not practicable to complete the preliminary results by the current deadline of April 2, 2005. In particular, we require additional time to issue supplemental questionnaires, review the responses, and conduct the analysis of the valuation of the factors of production. Therefore, in accordance with section 751(a)(3)(A) of the Act, the Department is fully extending the time limit for the preliminary results until no later than August 1, 2005, which is the next business day after 365 days from the last day of the anniversary month. The final results continue to be due 120 days after publication of the preliminary results.

We are issuing this notice in accordance with section 751(a)(3)(A) of the Act.

Dated: March 18, 2005.
Barbara E. Tillman,
Acting Deputy Assistant Secretary for Import Administration.

[FR Doc. E5-1296 Filed 3-23-05; 8:45 am]

BILLING CODE 3510-DS-P